NUCLEAR REGULATORY COMMISSION

[Docket No. 70-1257; NRC-2017-0148]

AREVA, Inc.; Richland, Washington; Indirect Transfer of License; Order

AGENCY: Nuclear Regulatory Commission.

ACTION: Indirect transfer of license; order.

SUMMARY: The U.S. Nuclear Regulatory Commission (NRC) is issuing an Order approving the indirect transfer of several licenses. AREVA, Inc., is the holder of materials license no. SNM-1227, which authorizes the possession and use of special nuclear material (SNM) at the AREVA, Inc. site in Richland, Washington. AREVA, Inc. is also the holder of export license nos. XSNM3551, XSNM3697, XSNM3747, XSOU8833, XCOM1202, XW015, XCOM1304, XSNM3780, XSNM3781, XSNM3782, and import license no. IW009 which authorize the import and export of licensed materials/components to and from facilities in the United States. The Order approves the indirect transfer of control of the above licenses resulting from a planned reorganization of AREVA, Inc.'s parent company and the sale of part of the parent company. There will be no direct transfer of control because AREVA, Inc. will continue to be the license holder. The Order became effective upon issuance.

DATES: The Order was issued on November 14, 2017, and is applicable until March 31, 2018.

ADDRESSES: Please refer to Docket ID NRC-2017-0148 when contacting the NRC about the availability of information regarding this document. You may obtain publicly-available information related to this document using any of the following methods:

• Federal Rulemaking website: Go to http://www.regulations.gov and search for Docket ID NRC-2017-0148. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Kevin M. Ramsey, Office of Nuclear Material Safety and Safeguards, U.S. Nuclear Regulatory Commission, Washington, DC 20555-0001; telephone: 301-415-7506, email: Kevin.Ramsey@nrc.gov.

SUPPLEMENTARY INFORMATION: The text of the Order is attached.

Availability of Documents

The documents identified in the following table are available to interested persons through one or more of the following methods, as indicated.

Document | ADAMS Accession No.
Letter dated April 14, 2017, titled “AREVA Internal Reorganization and Indirect Transfer to EDF: Request for NRC Consent to License Transfers” | ML17108A259
Letter dated July 14, 2017, titled “AREVA Internal Reorganization and Indirect Transfer to EDF: Request for NRC Consent to License Transfers” | ML17200C949
Letter dated August 31, 2017, titled “Response to a Request for Additional Information Regarding Application for NRC Consent to License Transfers” | ML17265A374
Letter dated October 4, 2017, titled “Update to Request for NRC Consent to License Transfers” | ML17283A110
Letter dated November 14, 2017, titled “AREVA, Inc.—Order Approving Indirect Transfer of Control of Licenses” | ML17269A246

Dated at Rockville, Maryland, this 13th day of December, 2017.
For the Nuclear Regulatory Commission.
Robert K. Johnson,
Chief, Fuel Manufacturing Branch, Division of Fuel Cycle Safety, Safeguards, and Environmental Review, Office of Nuclear Material Safety and Safeguards.

Attachment—Order Approving Indirect Transfer of Control of License

UNITED STATES OF AMERICA NUCLEAR REGULATORY COMMISSION

Docket Nos. 70-1257, 110-6288, 110-5623, 110-5959, 110-6110, 110-6153, 110-5788, 110-5149, 110-5789, 110-6231, 110-6265, 110-6267; License Nos. SNM-1227, XSNM3782, XSNM3551, XSNM3697, XSNM3747, XSOU8833, XCOM1202, IW009, XW015, XCOM1304, XSNM3780, XSNM3781

In the Matter of AREVA, Inc., Richland, Washington

ORDER APPROVING INDIRECT TRANSFER OF CONTROL OF LICENSE

I

AREVA, Inc., is the holder of materials license no. SNM-1227, which authorizes the possession and use of special nuclear material (SNM) at the AREVA, Inc. site in Richland, Washington. AREVA, Inc. is also the holder of export license nos. XSNM3551, XSNM3697, XSNM3747, XSOU8833, XCOM1202, XW015, XCOM1304, XSNM3780, XSNM3781, XSNM3782, and import license no. IW009 which authorize the import and export of licensed materials/components to and from facilities in the United States.

II

By letter dated April 14, 2017, and supplemented by letters dated July 14, August 31, and October 4, 2017 (collectively the Application), AREVA, Inc. requested the U.S. Nuclear Regulatory Commission's (NRC's) approval of the indirect transfer of control of the licenses listed above. The indirect transfer of control would result from a planned reorganization of AREVA SA to create a new, wholly-owned subsidiary and the sale of controlling interest in the new subsidiary to Electricite de France (EDF). AREVA SA, a company organized under the laws of France, is the ultimate parent company of AREVA NP SAS, a company organized under the laws of France and the current intermediate parent of AREVA, Inc. After the reorganization is complete, AREVA NP SAS will have a new, wholly-owned subsidiary called New NP SA. AREVA, Inc. will be a wholly-owned subsidiary of New NP SA, which in turn will be a wholly-owned subsidiary of AREVA NP SAS and indirect subsidiary of AREVA SA. AREVA SA will transfer controlling interest in New NP SA to EDF, a company organized under the laws of France. AREVA, Inc. will be an indirect subsidiary of EDF. The transaction will thus involve the indirect transfer of control over AREVA, Inc.'s NRC-issued licenses.

There will be no direct transfer of control because AREVA, Inc. will continue to be the license holder. There will be no change in the management or technical personnel responsible for licensed activities. The current safety, security, and licensing organizations within AREVA, Inc. will remain unchanged. Additionally, there are no planned changes in the operational organization, location, facilities, equipment, or procedures associated with the NRC licenses, and there will be no changes in AREVA, Inc. operating procedures, emergency procedures, or decommissioning financial assurance. Because the licensee remains the same, there will be no physical transfer of any records. All records concerning the safe and effective decommissioning of the facility, public dose, and waste disposal will remain physically located, maintained, and available at the Richland, Washington, site. EDF will abide by, and be ultimately responsible for meeting, all commitments and representations previously made by AREVA, Inc. with respect to the licenses listed above. These include, but are not limited to, maintaining decommissioning records, implementing decontamination activities, and eventually decommissioning the facilities and site. No physical or operational changes affecting the AREVA site and licensed activities were proposed in the Application.

Approval of the change of control was requested pursuant to Section 184 of the Atomic Energy Act of 1954, as amended (the Act), and Title 10 of the Code of Federal Regulations (10 CFR) Sections 70.36 and 110.50. A notice of receipt of the Application and opportunity to request a hearing and provide written comments was published in the Federal Register on June 9, 2017 (82 FR 29586-29588). No comments or requests for a hearing were received in response to the notice. A corrected notice was published on November 8, 2017 (82 FR 51880-51883), to add several export licenses omitted from the original Application.

Pursuant to 10 CFR 70.36, no 10 CFR part 70 license shall be transferred, assigned, or in any manner disposed of, either voluntarily or involuntarily, directly or indirectly, unless the NRC, after securing full information, finds that the transfer is in accordance with the provisions of the Act, and gives its consent in writing. Pursuant to 10 CFR 110.50, a specific license under Part 110 may be transferred, disposed of, or assigned to another person only with the approval of the Commission. After review of the information in the Application, and relying on the representations and agreements contained in the Application, the NRC staff has determined that EDF is qualified to hold the ownership interests previously held by AREVA NP SAS, and that the transfers of ownership and operating interests to EDF, described in the Application, are otherwise consistent with applicable provisions of law, regulations, and previous NRC orders. These findings are subject to the conditions set forth below. The NRC staff further finds that: (1) The requested change of control will not be inimical to the common defense and security or to the health and safety of the public; and (2) the change of control will be in accordance with 10 CFR part 51 of the NRC's environmental regulations, and all applicable requirements have been satisfied.

The findings set forth above are supported by the NRC's Safety Evaluation Report issued with this Order.

III

Accordingly, pursuant to Sections 161b, 161i, 183, and 184 of the Act; 42 U.S.C. 2201(b), 2201(i), 2233, and 2234; and 10 CFR 70.36 and 110.50, IT IS HEREBY ORDERED that the Application regarding the indirect transfer of control over licenses listed above from AREVA SA to EDF is approved, subject to the following conditions:

1. With respect to the licenses listed above, EDF, as stated in the Application, will abide by all commitments and representations previously made by AREVA, Inc. These include, are not limited to, maintaining decommissioning records and financial assurance, implementing decontamination activities, and eventually decommissioning the site.

2. The commitments/representations made in the Application regarding reporting relationships and authority over safety and security issues and compliance with NRC requirements shall be adhered to and may not be modified without the prior written consent from the Director, Office of Nuclear Material Safety and Safeguards, or his designee.

IT IS FURTHER ORDERED that AREVA, Inc. at least one (1) business day before all actions necessary to accomplish the indirect transfer of control are completed shall so inform the Director of the Office of Nuclear Material Safety and Safeguards, in writing. If the necessary supporting actions have not been completed by March 31, 2018, this Order shall become null and void; provided, however, that, upon timely written application and for good cause shown, such completion date may be extended by further Order.

This Order is effective on issuance.

For further details with respect to this Order, see the initial Application listed in Section II above, and the Safety Evaluation Report supporting this action, which are available for public inspection at the Commission's Public Document Room (PDR), located at One White Flint North, Public File Area 01-F21, 11555 Rockville Pike (first floor), Rockville, Maryland, and accessible, electronically, through the Agencywide Documents Access and Management System (ADAMS) Public Electronic Reading Room, on the internet the NRC website http://www.nrc.gov/reading-rm/adams.html. Persons who do not have access to ADAMS, or who encounter problems in accessing the documents located in ADAMS, should contact the NRC PDR reference staff, by telephone, at 1-800-397-4209, 301-415-4737, or via email, to pdr@nrc.gov.

Dated and issued this 14th day of November, 2017.

For the Nuclear Regulatory Commission.

Marc L. Dapas,

Director, Office of Nuclear Material Safety and Safeguards.

[FR Doc. 2017-27436 Filed 12-19-17; 8:45 am]

BILLING CODE 7590-01-P